DEPARTMENT OF ENERGY

Federal Energy Regulatory Commission

[Project No. 8405-024]

Green Mountain Power Corporation; Notice of Application Tendered for Filing With the Commission and Establishing Procedural Schedule for Licensing and Deadline for Submissions of Final Amendments

Take notice that the following hydroelectric application has been filed with the Commission and is available for public inspection.

a. Type of Application: Subsequent License for Minor Project.

b. Project No.: 8405-024.

c. Date Filed: February 27, 2025.

d. Applicant: Green Mountain Power Corporation (GMP).

e. Name of Project: Glen Hydroelectric Project (project).

f. Location: The existing project is located on the Mascoma River in Grafton County, New Hampshire.

g. Filed Pursuant to: Federal Power Act 16 U.S.C. 791(a)-825(r).

h. Applicant Contact: Mr. John Tedesco, Generation Project Coordinator, Green Mountain Power Corporation, 163 Acorn Lane Colchester, VT 05446; Phone at (802) 655-8753, or email at John.Tedesco@greenmountainpower.com.

i. FERC Contact: Steve Kartalia at (202) 502-6131, or stephen.kartalia@ferc.gov.

j. The application is not ready for environmental analysis at this time.

k. The existing Glen Project consists of a 173-foot-long, 14-foot-high concrete gravity dam that includes the following sections: (1) a 5-foot-long south abutment section; (2) a 123-foot-long, 12-foot-high spillway section equipped with: (a) 3-foot-high flashboards with a crest elevation of 413.2 feet National Geodetic Vertical Datum of 1929 (NGVD 29) at the top of the flashboards; (b) a 1-foot-wide concrete pier; (c) a trash sluice; and (d) a 4-foot-diameter, 14-foot-long steel pipe that extends downstream from the trash sluice; and (3) a 45-foot-long north abutment section. The dam creates an impoundment with a surface area of approximately 7 acres at an elevation of 413.2 feet NGVD 29. The project also comprises a (1) a 53.5-foot-long, 58.5-foot-wide intake structure that includes: (a) two 8-foot-wide, 8-foot-high steel headgates equipped with a 20-foot-wide, 15-foot-high trashrack with 2-inch clear bar spacing; and (b) a 10-foot-long steel inlet transition pipe from an 11-foot-wide, 6-foot-high rectangular cross-section to an 8.5-foot-diameter cross-section that connects the intake to a penstock; (2) a 4,100-foot-long, 8- to 8.5-foot-diameter penstock that trifurcates into three 4-foot-diameter sections that connect to the powerhouse; (3) a 20-inch minimum flow pipe protruding from the penstock immediately downstream of the intake structure; (4) a 26-foot-long, 30-foot-wide powerhouse containing a 685-kilowatt (kW) regulated propeller bulb turbine-generator unit and two 400-kW fixed propeller bulb turbine-generator units for a total installed capacity of 1,485 kW; (5) an approximately 34-foot-long, 30-foot-wide, 8-foot-deep tailrace that discharges into the Mascoma River; (6) a 50-foot-long underground transmission line that leads to a 2.4/13.2-kilovolt step-up transformer where the project is connected to the local electric grid; and (7) appurtenant facilities. The project creates an approximately 4,300-foot-long bypassed reach of the Mascoma River.

The current license requires GMP to operate the project in “instantaneous” run‐of‐river mode, so that project outflow approximates inflow to the impoundment. The current license also requires that GMP release a continuous minimum flow of 40 cubic feet per second (cfs) or inflow to the impoundment, whichever is less, from the project to the bypassed reach, as measured immediately downstream from the project dam, to protect aquatic resources in the Mascoma River. GMP releases the minimum flow to the bypassed reach through the minimum flow pipe. The average annual generation of the project between 2012 through 2024 was approximately 2,782 megawatt-hours.

GMP propose to: (1) continue operating the project in a run-of-river mode; (2) continue releasing a continuous minimum flow of 40 cfs or inflow to the impoundment, whichever is less, from the project to the bypassed reach; (3) develop an operations compliance monitoring plan; (4) avoid tree removal of all trees greater than 3 inches in diameter at breast height on project lands from April 15 through October 31, to minimize potential impacts to northern long-eared and tricolored bats; and (5) develop an historic properties management plan.

l. In addition to publishing this notice in the Federal Register, the Commission provides all interested persons an opportunity to view and/or print the contents of this notice, as well as other documents in the proceeding (e.g., license application) via the internet through the Commission's Home Page (http://www.ferc.gov), using the “eLibrary” link. Enter the docket number, excluding the last three digits in the docket number field to access the document (P-8405). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

m. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

n. Procedural Schedule: The application will be processed according to the following preliminary schedule. Revisions to the schedule will be made as appropriate.

Milestone | Target date
Deficiency Letter (if necessary) | March 2025.
Additional Information Request (if necessary) | April 2025.
Notice of Acceptance | January 2026.
Notice of Ready for Environmental Analysis | January 2026.

o. Final amendments to the application must be filed with the Commission no later than 30 days from the issuance date of the notice of ready for environmental analysis.

Dated: March 12, 2025.
Debbie-Anne A. Reese,
Secretary.

[FR Doc. 2025-04481 Filed 3-18-25; 8:45 am]

BILLING CODE 6717-01-P